Proclamation 7499 of November 9, 2001

World Freedom Day, 2001

By the President of the United States of America

A Proclamation

During the Cold War, freedom and authoritarianism clashed. Countries and entire regions suffered under repressive ideologies that sought to trample human dignity. Today, freedom is again threatened. Like the fascists and totalitarians before them, Al Qaida, the Taliban regime that supports them, and other terrorist groups across the world seek to impose their radical views through threats and violence.

The fall of the Berlin Wall on November 9, 1989, stands as the turning point of the Cold War and a significant landmark in freedom's victory over tyranny. The Wall stood as a grim symbol of the separation of free people and those living under dictatorships. We honor the spirit and perseverance of those who strived for freedom in East Germany and under other repressive regimes. Since the fall of the Berlin Wall, many countries have achieved freedom via the ballot box, through political pressure rising from their citizens, or as a result of the settlement of internal or regional conflicts. We celebrate the new freedom in which much of the world lives today.

On World Freedom Day, we also recognize that more than 2 billion people still live under authoritarian regimes. From Burma to Cuba, Belarus to Zimbabwe, citizens of many countries suffer under repressive governments. Our thoughts today especially turn to the people of Afghanistan. These men, women, and children suffer at the hands of the repressive Taliban regime, which, as we know, aids and abets terrorists.

In every oppressive nation, pro-democracy activists are working to stoke the fires of freedom, often at great personal risk. As we mark November 9, World Freedom Day, I encourage Americans to support those who seek to lead their people out of oppression.

On World Freedom Day, we also honor those who, at this moment, fight for freedom half a world away. On September 11, freedom was attacked, but liberty and justice will prevail. Like the fall of the Berlin Wall and the defeat of totalitarianism in Central and Eastern Europe, freedom will triumph in this war against terrorism.

NOW, THEREFORE, I, GEORGE W. BUSH, President of the United States of America, by virtue of the authority vested in me by the Constitution and laws of the United States, do hereby proclaim November 9, 2001, as World Freedom Day. I call upon the people of the United States to observe this day with appropriate ceremonies and activities and to reaffirm their devotion to the aspirations of all people for freedom and democracy.

IN WITNESS WHEREOF, I have hereunto set my hand this ninth day of November, in the year of our Lord two thousand one, and of the Independence of the United States of America the two hundred and twenty-sixth.

B

[FR Doc. 01-28804

Filed 11-14-01; 9:34 am]

Billing code 3195-01-P